DEPARTMENT OF LABOR

Employment and Training Administration

[TA-W-74,588]

Hewlett Packard Company Application Services Division Including Workers Whose Unemployment Insurance (UI) Wages Are Reported Through Universal Music Group; Fishers, IN; Amended Certification Regarding Eligibility To Apply for Worker Adjustment Assistance

In accordance with Section 223 of the Trade Act of 1974, as amended (“Act”), 19 U.S.C. 2273, the Department of Labor issued a Certification of Eligibility to Apply for Worker Adjustment Assistance on October 22, 2010, applicable to workers of Hewlett Packard Company, Applications Services Division, Fishers, Indiana. The notice was published in the Federal Register on November 8, 2010 (75 FR 68622).

At the request of the State Agency, the Department reviewed the certification for workers of the subject firm. The workers provide consulting and application development services for Hewlett Packard Company and its customers.

New information shows that in early 2010, Hewlett Packard purchased a portion of Universal Music Group and that some workers separated from employment at the Fishers, Indiana location of Hewlett Packard, Applications Services Division had their wages reported under a separate unemployment insurance (UI) tax account under the name Universal Music Group. Accordingly, the Department is amending this certification to properly reflect this matter. The intent of the Department's certification is to include all workers of the subject firm who were adversely affected by a shift in the consulting and application development services to a foreign country.

The amended notice applicable to TA-W-74,588 is hereby issued as follows:

“All workers of Hewlett Packard, Application Services Division, including workers whose unemployment insurance (UI) wages are reported through Universal Music Group, Fishers, Indiana, who became totally or partially separated from employment on or after August 1, 2009, through October 22, 2012, and all workers in the group threatened with total or partial separation from employment on date of certification through two years from the date of certification, are eligible to apply for adjustment assistance under Chapter 2 of Title II of the Trade Act of 1974, as amended.”

Signed in Washington, DC, January 19, 2011.
Michael W. Jaffe,
Certifying Officer, Office of Trade Adjustment Assistance.

[FR Doc. 2011-1623 Filed 1-25-11; 8:45 am]

BILLING CODE 4510-FN-P